DEPARTMENT OF COMMERCE

International Trade Administration

[A-201-844]

Steel Concrete Reinforcing Bar From Mexico: Preliminary Results of Antidumping Duty Administrative Review and Preliminary Determination of No Shipments; 2018-2019

AGENCY: Enforcement and Compliance, International Trade Administration, Department of Commerce.

SUMMARY: The Department of Commerce (Commerce) preliminarily determines that Deacero S.A.P.I. de C.V. (Deacero) sold subject merchandise in the United States at prices below normal value during the November 1, 2018, through October 31, 2019 period of review (POR). In addition, Commerce preliminarily determines that Ternium Mexico, S.A. de C.V. (Ternium) had no shipments of subject merchandise during the POR. We invite interested parties to comment on these preliminary results.

DATES: Applicable March 23, 2021.

FOR FURTHER INFORMATION CONTACT: David Lindgren, AD/CVD Operations, Office III, Enforcement and Compliance, International Trade Administration, U.S. Department of Commerce, 1401 Constitution Avenue NW, Washington, DC 20230; telephone: (202) 482-1671.

SUPPLEMENTARY INFORMATION:

Background

On November 6, 2014, Commerce published the antidumping duty order on steel concrete reinforcing bar (rebar) from Mexico in the Federal Register.¹ On January 17, 2020, pursuant to section 751(a)(1) of the Tariff Act of 1930, as amended (the Act), Commerce initiated an administrative review of the Order.²

¹ See Steel Concrete Reinforcing Bar from Mexico: Antidumping Duty Order, 79 FR 65925 (November 6, 2014) (Order).

² See Initiation of Antidumping Duty and Countervailing Duty Administrative Reviews, 85 FR 3014 (January 17, 2020) (Initiation Notice).

On April 24, 2020, Commerce tolled all deadlines in administrative reviews by 50 days.³ Subsequently, on July 21, 2020, Commerce tolled all deadlines in administrative reviews by an additional 60 days.⁴ On October 9, 2020, we extended the deadline for the preliminary results to March 19, 2021.⁵

³ See Memorandum, “Tolling of Deadlines for Antidumping and Countervailing Duty Administrative Reviews in Response to Operational Adjustments Due to COVID-19,” dated April 24, 2020.

⁴ See Memorandum, “Tolling of Deadlines for Antidumping and Countervailing Duty Administrative Reviews,” dated July 21, 2020.

⁵ See Memorandum, “Extension of Deadline for Preliminary Results,” dated October 9, 2020.

Commerce initiated this administrative review covering the following companies: AceroMex S.A.; Aceros Especiales Simec Tlaxcala; Arcelor Mittal; Arcelor Mittal Celaya; ArcelorMittal Cordoba S.A. de C.V.; ArcelorMittal Lazaro Cardenas S.A. de C.V.; Cia Siderurgica De California, S.A. de C.V.; Compania Siderurgica de California, S.A. de C.V.; DE ACERO SA. DE CV.; Deacero; Grupo Simec; Grupo Villacero S.A. de C.V.; Industrias CH; Orge S.A. de C.V.; Siderurgica Tultitlan S.A. de C.V.; Simec International S.A. de C.V.; Talleres y Aceros, S.A. de C.V.; and, Ternium Mexico, S.A. de C.V. On March 4, 2020, we limited the number of respondents selected for individual examination in this administrative review to Deacero.⁶ We did not select the remaining companies for individual examination, and these companies remain subject to this administrative review.⁷

⁶ See Memorandum, “2018-2019 Antidumping Duty Administrative Review of Steel Concrete Reinforcing Bar from Mexico: Respondent Selection,” dated March 4, 2020.

⁷ While the petitioner requested a review of both DE ACERO SA. DE CV. and Deacero, Commerce has previously determined that DE ACERO SA. DE CV. is the same company as Deacero and therefore, we are treating DE ACERO SA. DE CV. as the same as Deacero. Further, we previously collapsed, or found affiliated, 4 of the 18 firms listed in the Initiation Notice (i.e., Aceros Especiales Simec Tlaxcala, Grupo Simec, Orge S.A. de C.V., and Simec International S.A. de C.V.) into the single entity “Grupo Simec.” Commerce has previously collapsed several additional companies into the single entity, “Grupo Simec” which are identified in the rates section below. See, e.g., Steel Concrete Reinforcing Bar from Mexico: Final Results of Antidumping Duty Administrative Review; 2017-2018, 85 FR 71053 (November 6, 2020) (2017-2018 AR Mexico Rebar Final), at 71053-71054.

Scope of the Order

The product covered by the Order is steel concrete reinforcing bar from Mexico. For a complete description of the scope, see the Preliminary Decision Memorandum.⁸

⁸ See Memorandum, “Decision Memorandum for the Preliminary Results of the Antidumping Duty Administrative Review and Preliminary Determination of No Shipments: Steel Concrete Reinforcing Bar from Mexico; 2018-2019,” dated concurrently with, and hereby adopted by, this notice (Preliminary Decision Memorandum).

Preliminary Determination of No Shipments

We preliminarily determine that Ternium made no shipments of subject merchandise during the POR. Moreover, consistent with our practice, we are not preliminarily rescinding the review with respect to Ternium, but, rather, we will complete the review with respect to the company and issue appropriate instructions to U.S. Customs and Border Protection (CBP) based on the final results of this review.⁹ For further discussion, see the Preliminary Decision Memorandum.

⁹ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014).

Methodology

Commerce is conducting this review in accordance with section 751(a)(2) of the Act. Constructed export price was calculated in accordance with section 772 of the Act. Normal value was calculated in accordance with section 773 of the Act. For a full description of the methodology underlying our preliminary results, see the Preliminary Decision Memorandum. A list of the topics discussed in the Preliminary Decision Memorandum is attached as the appendix to this notice. The Preliminary Decision Memorandum is a public document and is on file electronically via Enforcement and Compliance's Antidumping Duty and Countervailing Duty Centralized Electronic Service System (ACCESS). ACCESS is available to registered users at https://access.trade.gov. In addition, a complete version of the Preliminary Decision Memorandum can be accessed directly at http://enforcement.trade.gov/frn/index.html.

Rate for Non-Selected Companies

We are applying to the non-selected companies the rate preliminarily calculated for Deacero in this administrative review, which is the only calculated rate in this administrative review that is not zero, de minimis or determined entirely on the basis of facts available. For a detailed discussion, see the Preliminary Decision Memorandum.

Preliminary Results of the Review

We preliminarily determine the following weighted-average dumping margins exist for the POR:

¹⁰ This also applies to any entries made under the name DE ACERO SA. DE CV., as noted above.

¹¹ Commerce has previously collapsed the following entities into a single entity: Grupo Simec; Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and, Simec International 9 S.A. de C.V. See, e.g., 2017-2018 AR Mexico Rebar Final, 85 FR at 71053-71054.

Producer and/or exporter | Weighted- average dumping margin (percent)
Deacero S.A.P.I de C.V.¹⁰ | 5.05
Grupo Simec (Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and, Simec International 9 S.A. de C.V.) ¹¹ | 5.05
AceroMex S.A | 5.05
Arcelor Mittal | 5.05
ArcelorMittal Celaya | 5.05
ArcelorMittal Cordoba S.A. de C.V | 5.05
ArcelorMittal Lazaro Cardenas S.A. de C.V | 5.05
Cia Siderurgica de California, S.A. de C.V | 5.05
Compania Siderurgica de California, S.A. de C.V | 5.05
Grupo Villacero S.A. de C.V | 5.05
Industrias CH | 5.05
Siderurgica Tultitlan S.A. de C.V | 5.05
Talleres y Aceros, S.A. de C.V | 5.05

Disclosure and Public Comment

We intend to disclose the calculations performed in these preliminary results to parties in this proceeding within five days of the date of publication of this notice.¹² Pursuant to 19 CFR 351.309(c), interested parties may submit case briefs not later than 30 days after the date of publication of this notice. Rebuttal briefs, limited to issues raised in the case briefs, may be filed no later than seven days after the date for filing case briefs.¹³ Parties who submit case briefs or rebuttal briefs in this proceeding are encouraged to submit with each argument: (1) A statement of the issue; (2) a brief summary of the argument; and (3) a table of authorities.¹⁴ Case and rebuttal briefs should be filed using ACCESS ¹⁵ and must be served on interested parties.¹⁶ Executive Summaries should be limited to five pages total, including footnotes.

¹² See 19 CFR 351.224(b).

¹³ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect)”); and Temporary Rule Modifying AD/CVD Service Requirements Due to COVID-19; Extension of Effective Period, 85 FR 41363 (July 10, 2020).

¹⁴ See 19 CFR 351.309(c)(2) and (d)(2).

¹⁵ See generally 19 CFR 351.303.

¹⁶ See 19 CFR 351.303(f).

Pursuant to 19 CFR 351.310(c), interested parties who wish to request a hearing must submit a written request to the Assistant Secretary for Enforcement and Compliance, filed electronically via Commerce's electric records system, ACCESS. An electronically filed request must be received successfully in its entirety by 5:00 p.m. Easter Time within 30 days after the date of publication of this notice.¹⁷ Requests should contain: (1) The party's name, address, and telephone number; (2) the number of participants; and (3) a list of issues to be discussed. If a request for a hearing is made, Commerce intends to hold the hearing at a time and date to be determined.¹⁸ Parties should confirm by telephone the date, time, and location of the hearing two days before the scheduled date.

¹⁷ See 19 CFR 351.310(c).

¹⁸ See 19 CFR 351.310(d).

Commerce intends to issue the final results of this administrative review, including the results of our analysis of the issues raised in any written briefs, no later than 120 days after the date of publication of this notice, unless extended.¹⁹

¹⁹ See section 751(a)(3)(A) of the Act; and 19 CFR 351.213(h).

Assessment Rate

Upon completion of the administrative review, Commerce shall determine, and CBP shall assess, antidumping duties on all appropriate entries. If the weighted-average dumping margin for Deacero (i.e., the sole individually examined respondent in this review) is not zero or de minimis (i.e., less than 0.5 percent) in the final results of this review, we will calculate importer-specific ad valorem assessment rates for the merchandise based on the ratio of the total amount of dumping calculated for the examined sales made during the POR to each importer and the total entered value of those same sales, in accordance with 19 CFR 351.212(b)(1). Where an importer-specific ad valorem assessment rate is zero or de minimis in the final results of review, we will instruct CBP to liquidate the appropriate entries without regard to antidumping duties, in accordance with 19 CFR 351.106(c)(2). If a respondent's weighted-average dumping margin is zero or de minimis in the final results of review, we will instruct CBP not to assess duties on any of its entries in accordance with the Final Modification for Reviews, i.e., “{w}here the weighted-average margin of dumping for the exporter is determined to be zero or de minimis, no antidumping duties will be assessed.” ²⁰ For the companies which were not selected for individual review, we will assign an assessment rate based on the weighted-average dumping margin calculated for the sole individually examined respondent in this review, Deacero.

²⁰ See Antidumping Proceedings: Calculation of the Weighted-Average Dumping Margin and Assessment Rate in Certain Antidumping Proceedings; Final Modification, 77 FR 8101, 8102 (February 14, 2012) (Final Modification for Reviews).

For entries of subject merchandise during the POR produced by Deacero for which the producer did not know its merchandise was destined for the United States, or for any respondent for which we have a final determination of no shipments, we will instruct CBP to liquidate unreviewed entries at the all-others rate if there is no rate for the intermediate company (or companies) involved in the transaction.²¹

²¹ See Antidumping and Countervailing Duty Proceedings: Assessment of Antidumping Duties, 68 FR 23954 (May 6, 2003).

Commerce intends to issue assessment instructions to CBP no earlier than 41 days after the date of publication of the final results of this review in the Federal Register, in accordance with 19 CFR 356.8(a).

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for Deacero and other companies listed above will be equal to the weighted-average dumping margin established in the final results of this administrative review, except if the rate is less than 0.50 percent, and therefore de minimis within the meaning of 19 CFR 351.106(c)(1), in which case the cash deposit rate will be zero; (2) for previously reviewed or investigated companies not listed above, the cash deposit rate will continue to be the company-specific rate published for the most recently completed segment of this proceeding in which the company participated; (3) if the exporter is not a firm covered in this review, a prior review, or in the investigation but the producer is, the cash deposit rate will be the rate established for the most recently completed segment of this proceeding for the producer of the merchandise; and (4) the cash deposit rate for all other producers or exporters will continue to be the all-others rate of 20.58 percent, the rate established in the investigation of this proceeding.²² These cash deposit requirements, when imposed, shall remain in effect until further notice.

²² See Steel Concrete Reinforcing Bar from Mexico: Final Determination of Sales at Less Than Fair Value and Final Affirmative Determination of Critical Circumstances, 79 FR 54967 (September 15, 2014).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h)(1).

Dated: March 17, 2021.
Christian Marsh,
Acting Assistant Secretary for Enforcement and Compliance.

Appendix

List of Topics Discussed in the Preliminary Decision Memorandum

I. Summary

II. Background

III. Scope of the Order

IV. Preliminary Determination of No Shipments

V. Margin for Companies Not Selected for Individual Examination

VI. Discussion of the Methodology

VII. Recommendation

[FR Doc. 2021-05959 Filed 3-22-21; 8:45 am]

BILLING CODE 3510-DS-P